DEPARTMENT OF ENERGY

Federal Energy Regulatory Commission

[Project No. 10821-005]

Pacific Gas and Electric Company; Notice of Application Ready for Environmental Analysis and Soliciting Comments, Recommendations, Terms and Conditions, and Prescriptions

Take notice that the following license application has been filed with the Commission and is available for public inspection.

a. Type of Application: Subsequent License—Transmission Line Only.

b. Project No.: P-10821-005.

c. Date filed: June 27, 2019.

d. Applicant: Pacific Gas and Electric Company (PG&E).

e. Name of Project: Camp Far West Transmission Line Project.

f. Location: The existing transmission line project, with proposed modifications, would be located in Placer and Yuba Counties, California. The project would occupy a total of 52.3 acres and include tribal land managed by the U.S. Department of the Interior, Bureau of Indian Affairs (Auburn Off-Reservation Land Trust) and federal land managed by the U.S. Department of Defense (Beale Air Force Base).

g. Filed Pursuant to: Federal Power Act 16 U.S.C. 791a-825r.

h. Applicant Contact: Mr. Robert Donovan, Senior Transmission Planner, Pacific Gas and Electric Company, 245 Market Street, Room 1053B, Mail Code N10A, San Francisco, California 94105.

i. FERC Contact: Quinn Emmering, (202) 502-6382, quinn.emmering@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERC.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-10821-005.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The existing Camp Far West Transmission Line Project includes a 1.9-mile-long, three-phase, 60-kilovolt (kV) transmission line extending from the powerhouse of the Camp Far West Hydroelectric Project in Placer County to an interconnection with PG&E's 9-mile-long Smartville-Lincoln (formerly Smartville-Pleasant Grove) 60-kV transmission line. The Camp Far West Transmission Line Project is a transmission line only project; therefore, the project does not generate power, nor does it include any dams, diversions, or otherwise discharge to surface waters, nor does it include recreation facilities. The transmission line project annually transmits approximately 26,900 megawatt hours of energy generated at the project powerhouse for the Camp Far West Hydroelectric Project.

PG&E proposes to include the 9-mile-long Smartville-Lincoln 60-kV transmission line as a project facility in any subsequent license issued for the project. PG&E has determined that, while this segment of transmission line used to carry electricity from multiple sources, it now only carries electricity from the Camp Far West Hydroelectric Project to the integrated transmission system. Due to this, PG&E believes that the 9-mile-long segment should be considered part of the primary transmission line for the Camp Far West Hydroelectric Project and that it be incorporated into the Camp Far West Transmission Line Project. As proposed, the Camp Far West Transmission Line Project would consist of 10.9-mile-long, three-phase, 60-kV transmission line extending from the powerhouse of the Camp Far West Hydroelectric Project to the interconnection point located at Beale Air Force Base.

m. In addition to publishing the full text of this document in the Federal Register, the Commission provides all interested persons an opportunity to view and/or print the contents of this document via the internet through the Commission's website at http://www.ferc.gov using the eLibrary link. Enter the docket number excluding the last three digits in the docket number field to access the document (i.e., P-10821). At this time, the Commission has suspended access to the Commission's Public Reference Room, due to the proclamation declaring a National Emergency concerning the Novel Coronavirus Disease (COVID-19), issued by the President on March 13, 2020. For assistance, contact FERC Online Support.

All filings must (1) bear in all capital letters the title COMMENTS, REPLY COMMENTS, RECOMMENDATIONS, TERMS AND CONDITIONS, or PRESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

o. Procedural schedule: The application will be processed according to the following schedule. Revisions to the schedule will be made as appropriate.

Deadline for Filing Comments, Recommendations, and Agency Terms and Conditions/Prescriptions September 28, 2020

Licensee's Reply to REA Comments November 11, 2020

Commission issues EA April 2021

Comments on EA May 2021

Commission issues license order October 2021

Dated: July 29, 2020.
Nathaniel J. Davis, Sr.,
Deputy Secretary.

[FR Doc. 2020-16949 Filed 8-3-20; 8:45 am]

BILLING CODE 6717-01-P